DEPARTMENT OF COMMERCE

National Oceanic and Atmospheric Administration

50 CFR Parts 300 and 679

[Docket No. 250630-0116]

RIN 0648-BN18

Fisheries of the Exclusive Economic Zone Off Alaska; Pacific Halibut Recreational Quota Entity Program Fee Collection

AGENCY: National Marine Fisheries Service (NMFS), National Oceanic and Atmospheric Administration (NOAA), Commerce.

ACTION: Final rule.

SUMMARY: This final rule authorizes fee collection for the Recreational Quota Entity (RQE) Program. A charter halibut stamp (stamp) is required under this final rule for every charter vessel angler, 18 years of age or older, for each charter vessel fishing trip in a given calendar day, or each calendar day during a charter vessel fishing trip that spans multiple days, who intends to catch and retain halibut on a charter vessel in International Pacific Halibut Commission (IPHC) regulatory areas 2C in Southeast Alaska and 3A in South Central Alaska. Persons who hold charter halibut permits (CHPs) must purchase electronic stamps from NMFS. Charter vessel guides are required to validate a stamp for each adult charter vessel angler intending to catch and retain halibut on a charter vessel fishing trip. This final rule is necessary to promote stability and economic viability in the charter halibut fishery and is intended to promote the goals and objectives of the Magnuson-Stevens Fishery Conservation and Management Act (Magnuson-Stevens Act), the Northern Pacific Halibut Act of 1982 (Halibut Act), and other applicable laws.

DATES: This rule is effective on January 1, 2026.

ADDRESSES:

Electronic copies of the Regulatory Impact Review (RIR) and the Categorical Exclusion (CE) prepared for this action are available at: https://www.regulations.gov or from the NMFS Alaska Region website.

Written comments regarding the burden-hour estimates or other aspects of the collection-of-information requirements contained in this final rule may be submitted to NMFS at the Alaska Region website and at: https://www.reginfo.gov/public/do/PRAMain. Find this particular information collection by selecting “Currently under Review—Open for Public Comments” or by using the search function.

FOR FURTHER INFORMATION CONTACT: Doug Duncan, 907-586-7228, doug.duncan@noaa.gov.

SUPPLEMENTARY INFORMATION: This final rule authorizes an RQE Program fee collection. NMFS published the proposed rule in the Federal Register to authorize an RQE Program fee collection on October 31, 2024 (89 FR 86772). The comment period on the proposed rule ended on December 2, 2024. NMFS received 129 comment letters on the proposed rule. NMFS considered all comments submitted on or before December 2, 2024 in the development of this final rule. A summary of the comments and NMFS' responses are provided in the Comments and Responses section of this preamble. All public comment letters submitted during the comment period may be obtained at: https://www.regulations.gov. A detailed review of the rationale for these regulations is provided in the preamble to the proposed rule (89 FR 86772, October 31, 2024).

Due to the complications of implementing this RQE fee collection program mid-season, this final rule will be effective on January 1, 2026.

Authority for Action

In December 2022, through the Consolidated Appropriations Act of 2023 (Pub. L. 117-328), the U.S. Congress (Congress) enacted the Driftnet Modernization and Bycatch Reduction Act (Act). Public Law 117-328, 136 Stat. 4459, 5260-61 (Dec. 29, 2022). Section 106 of the Act authorizes the North Pacific Fishery Management Council (Council) to recommend, and the Secretary of Commerce to approve, “regulations necessary for the collection of fees from charter vessel operators who guide recreational anglers who retain Pacific halibut in IPHC regulatory areas 2C and 3A.” Under the section 106 of the Act, any fees collected shall be available for financing administrative costs of the RQE Program; the purchase of halibut Quota Share (QS) in areas 2C and 3A by the RQE; halibut conservation and research; and promotion of the halibut resource by the RQE. This final rule implements section 106 of the Act.

The IPHC and NMFS manage fishing for Pacific halibut (halibut, Hippoglossus stenolepis) through regulations established under authority of the Halibut Act. The IPHC adopts regulations governing the halibut fishery under the Convention between the United States and Canada for the Preservation of the Halibut Fishery of the North Pacific Ocean and Bering Sea (Convention), signed at Ottawa, Ontario, on March 2, 1953, as amended by a Protocol Amending the Convention (signed at Washington, DC, on March 29, 1979). For the United States, regulations developed by the IPHC are subject to acceptance by the Secretary of State with concurrence from the Secretary of Commerce. After acceptance by the Secretary of State and concurrence from the Secretary of Commerce, NMFS publishes notice of the efficacy of the IPHC regulations in the Federal Register. On March 18, 2024, NMFS published the IPHC regulations for the 2024 fishing year (i.e., 0001 hours, Alaska local time, on January 1, through 2400 hours, Alaska local time, on December 31). IPHC regulations affecting sport fishing for halibut and vessels in the charter halibut fishery in IPHC regulatory areas 2C and 3A may be found in that final rule (89 FR 19275, March 18, 2024).

Section 5 of the Halibut Act provides the Secretary of Commerce with general responsibility to carry out the Convention and the Halibut Act. In adopting regulations that may be necessary to carry out the purposes and objectives of the Convention and the Halibut Act, the Secretary of Commerce is directed to consult with the Secretary of the department in which the U.S. Coast Guard is operating, which is currently the Department of Homeland Security.

Section 5 of the Halibut Act also provides the Council with authority to develop regulations for waters off Alaska, including limited access regulations that are in addition to, and not in conflict with, approved IPHC regulations. Regulations developed by the Council may be implemented by NMFS only after approval by the Secretary of Commerce. The Council exercised this authority in the development of halibut fishery management measures, codified at 50 CFR 300.65 through 300.67 and 50 CFR part 600. The Council also developed the Individual Fishing Quota (IFQ) Program for the commercial halibut and sablefish fisheries, codified at 50 CFR part 679. Management of halibut in the IFQ Program is authorized under section 5 of the Halibut Act.

Background

Summary Background on Management of the Charter Halibut Fishery

The proposed rule for this action provides a comprehensive history of management of the guided sport fishery for halibut off Alaska (also referred to herein as the “charter fishery”) (89 FR 86772, October 31, 2024). The proposed rule also provides detailed background on the commercial halibut and sablefish IFQ Program and how the IFQ Program intersects with management of the charter fishery, primarily through the Catch Sharing Plan (CSP) that establishes allocations of halibut between the commercial halibut IFQ and charter sectors.

The proposed rule describes the history and development of annual management measures for the charter fishery, including the current annual management processes. The proposed rule also provides a summary of the development of the Charter Halibut Limited Access Program that established CHPs and provides details on the Guided Angler Fish (GAF) Program and the RQE Program. The proposed rule also describes the Military Morale, Welfare, and Recreation (MWR) and Community Quota Entity (CQE) programs that issue military charter halibut permits and community charter halibut permits that are also subject to the same annual management measures and many of the same regulations as other CHP holders. The RQE Program fee collection and associated stamp apply to the MWR and CQE.

Recreational Quota Entity (RQE) Program

This action implements regulations that focus on the already established RQE Program. The RQE Program was implemented in 2018 as part of the IFQ Program in IPHC regulatory areas 2C and 3A. More details on the RQE Program are provided in the proposed rule (82 FR 46016, October 3, 2017) and final rule (83 FR 47819, September 21, 2018).

The program allows the RQE designated by NMFS to purchase and hold a limited amount of commercial halibut QS that would yield pounds of Recreational Fishing Quota (RFQ). RFQ is the pounds of halibut issued to an RQE on an annual basis to supplement the amount of halibut allocated to the charter halibut fishery (83 FR 47819, September 21, 2018). The RQE Program therefore provides a mechanism for the RQE to purchase a portion of commercial halibut QS for use by the charter fishery, which may result in less restrictive annual management measures for the charter fishery or help maintain existing management measures if there are continued reductions in halibut abundance.

In March 2020, NMFS approved the application of the Catch Accounting Through Compensated Halibut (CATCH) Association to serve as the RQE. CATCH is currently eligible to purchase and permanently hold halibut QS, but, to date, CATCH has not purchased any halibut QS, as there was previously no funding mechanism in place.

Guided Angler Fish (GAF) Program

As part of the 2014 CSP, NMFS implemented the GAF Program to authorize limited annual transfers of commercial halibut IFQ as GAF to qualified individual CHP holders. The GAF Program is described in more detail in the proposed rule for the CSP (78 FR 39122, June 28, 2013).

To use GAF, qualified CHP holders seek a GAF permit from NMFS, which authorizes them to lease commercial halibut IFQ for the purpose of offering charter vessel anglers the opportunity to retain halibut up to the limit for unguided anglers. For example, if charter management regulations in IPHC regulatory area 2C restrict charter vessel anglers to a 1-halibut daily bag limit, a charter vessel angler could use GAF to retain a second halibut, bringing the angler's total retained amount to 2 halibut—the same daily bag limit that applies to unguided anglers. Similarly, GAF also allows charter vessel anglers to retain halibut on days that are otherwise closed to halibut retention by charter vessel anglers by the annual management measures published pursuant to § 300.62.

NMFS issues GAF in whole numbers of halibut to individual CHP holders with GAF permits based on a conversion factor from IFQ pounds. Conversion factors are based on the average net weights of GAF retained in the applicable IPHC regulatory area during the previous year. The GAF Program has restrictions on transfers and use of GAF that are intended to prevent a particular individual, corporation, or other entity from acquiring an excessive share of halibut fishing privileges as GAF.

Final Rule

Summary of the Final Rule

Starting January 1, 2026, this final rule requires CHP holders to purchase an electronic stamp for $20 each for all charter vessel anglers, 18 years of age or older, for each charter vessel fishing trip in a given calendar day, or each calendar day during a charter vessel fishing trip that spans multiple days, that the charter vessel angler intends to catch and retain halibut on a charter vessel fishing trip in IPHC regulatory areas 2C and 3A. However, this stamp requirement does not apply if a charter vessel angler retains halibut as GAF on days that are otherwise closed to halibut retention by the annual management measures published pursuant to § 300.62.

NMFS will transfer the collected stamp fees to a specific fund in the Federal Treasury, currently referred to as the RQE Fund, which has been created by Congress. From this account, Congress may make the money available to NMFS, to be used for the four purposes as specified in the Act and described above. For the promotion of the halibut resource and the purchase of IFQ shares in IPHC regulatory areas 2C and 3A, NMFS intends to issue funds to the RQE through periodic grants. Congress also authorized NMFS to use monies collected from this fee program to pay for RQE Program administrative costs and to support halibut conservation and research.

Charter Halibut Permit Holders Purchase Stamps

This final rule requires that CHP holders obtain the stamps from NMFS and pay applicable fees for all stamps validated for their CHP in a given fishing year. All CHP holders are subject to these regulations, including CQEs and MWR programs holding any type of CHP. A CHP holder may log in to their CHP holder eFISH account to purchase stamps at any time and in any quantity. After the CHP holder purchases stamps, they are held in secure, individual CHP holder accounts within eFISH that are maintained by NMFS, as discussed below in the “Charter Halibut Permit Holder Accounts” section. Stamps reside in the account indefinitely until a charter vessel guide, as defined at § 300.61, using the CHP debits (i.e., uses) the stamp by the stamp validation process discussed below under “Charter Halibut Stamp Validation.” CHP holders commonly lease their CHPs. As such, the charter vessel guide who leases, or otherwise uses the CHP, might not be the person who holds (i.e., owns) the CHP. This final rule specifies that the CHP holder is the person responsible for purchasing an adequate number of stamps to cover the number of stamp validations that are made by the charter vessel guide. If the CHP is sold, CHP holders are responsible for fees for stamp validations that occurred during their respective periods of CHP ownership.

Section 6 of the Act authorizes the development of regulations “for the collection of fees from charter vessel operators.” We do not interpret this provision so restrictively to mean that only a charter vessel operator can be required to purchase stamps. The CHP holder would otherwise be indirectly responsible for the failure to purchase stamps and is in a better position to directly carry the burden of purchasing them. This rulemaking therefore imposes that obligation on the CHP holder, consistent with Congress' intent, purpose, and plain meaning of the Act. Indeed, under longstanding regulations at § 300.67(a)(1), every CHP holder is obligated to ensure that associated charter vessel operators and charter vessel guides comply with all applicable regulatory requirements. Further, CHP holders commonly are the charter vessel operators themselves.

There are also additional reasons to impose the obligation to purchase stamps on CHP holders. If NMFS were to impose that duty on charter vessel operators, the costs of administering this program would increase markedly.

Charter vessel guides and charter vessel operators are often employees of the CHP holder and they have no durable link to NMFS or the charter halibut regulatory programs. Conversely, CHP holders already have established an annual administrative relationship with NMFS. As a result, if charter vessel operators were required to purchase stamps, many new administrative accounts would have to be created. Ultimately, this would mean that there would be a much higher number of eFISH users, the number of eFISH users could change significantly each year, and the technical support that NMFS would need to provide to maintain this system would significantly increase costs. Because the Act authorizes the deduction of administrative costs from the fees collected, this would reduce the benefits of the RQE Program, which would be at odds with Congress's intent and purpose in passing the Act. The requirements for CHP holders in the RQE Program are also consistent with other NMFS regulations that obligate persons or business entities who hold exclusive fishing rights to ensure regulatory compliance for most of the actions associated with their permits (e.g., § 679.85(a)(1)).

Finally, collecting fees from CHP holders will make the RQE fee collection provisions more readily enforceable than collecting fees from charter vessel operators. In the event of a stamp deficiency, NMFS's only remedy would be to pursue collections against charter vessel operators, who are not otherwise required to register with NMFS. This contrasts with program enforcement for CHP holders, who are limited in number and have greater incentives to timely pay any stamp deficiency and, therein, ensure their CHPs are current and active. Indeed, a CHP is an important asset that a holder has a vested interest in maintaining, and it must be approved by NMFS annually before use. NMFS can require payment of outstanding fees before renewing a CHP.

Charter Halibut Permit Holder Accounts

Under this final rule, NMFS administers the fee collection and issues stamps to CHP holders through a NMFS-approved system. Currently, the NMFS-approved system is a secure online platform, eFISH, that is accessed by Alaska fishery participants for a variety of purposes, including the annual registration of CHPs, recording the retention of GAF, and paying business fishery fees.

Each CHP holder, who holds one or more CHPs, will be required under this final rule to create an eFISH online account and ensure that fees are paid for purchased stamps. All CHPs held by a CHP holder will be included in a single eFISH account, allowing stamps to be used freely across all CHPs on that account. For military charter halibut permits, the MWR is considered to be the CHP holder. For community charter halibut permits, the CQE is considered to be the CHP holder.

Stamps remain in the account until they are validated and debited from the account (i.e., until they are used) by a charter vessel guide, by the stamp validation process discussed below under “Charter Vessel Guides Validate Stamps.” The stamps are not year-specific and do not expire. If stamps are not used in a given fishing year, they carry over to the next fishing year.

CHP holders are responsible for ensuring that the number of validated stamps tied to their CHP does not exceed the number of stamps that have been purchased in a given fishing year. If a CHP holder is uncertain of how many stamps they may need to purchase for a given season, they may use their eFISH account to monitor stamp validations and to purchase stamps in small increments throughout the fishing year as needed. CHP holders with a non-transferable CHP who are uncertain as to how much longer their CHP is valid may do the same to avoid purchasing more stamps than they need.

If the number of stamp validations exceeds the number of stamps purchased on a CHP holder account, NMFS will notify the CHP holder and give them the opportunity to reconcile the account prior to the annual charter halibut stamp reconciliation deadline. If an uncorrected deficit of stamps exists from the previous fishing year for one or more CHPs, all associated CHPs in that eFISH account are then considered to be delinquent.

Should a CHP holder disagree that their account reflects a stamp purchase and validation imbalance, they have the right to request a hearing and at such a hearing to present evidence to support their position. If NMFS ultimately determines that an account purchase and validation imbalance has not been reconciled for the previous fishing year, NMFS may issue an Initial Administrative Determination (IAD) and suspend the use and transfer of any CHPs associated with the CHP holder account until the outstanding fees are paid in full. The CHP holder may appeal and have the IAD reviewed by NOAA's National Appeals Office.

Charter Vessel Guides Validate Stamps

This final rule requires that charter vessel guides validate stamps before each charter vessel fishing trip begins. Stamp validation requires the charter vessel guide to record the number of stamps that are required for a particular charter vessel fishing trip in the Alaska Department of Fish and Game (ADF&G) Saltwater Sport Fishing Charter Trip Logbook (ADF&G logbook). A charter vessel guide must validate one stamp for each charter vessel angler, 18 years of age or older, for each charter vessel fishing trip in a given calendar day, or each calendar day during a charter vessel fishing trip that spans multiple days, that the charter vessel angler intends to catch and retain halibut on the charter vessel in IPHC regulatory area 2C or 3A, unless that charter vessel angler retains halibut as GAF on a day that is otherwise closed to halibut retention by the annual management measures published pursuant to § 300.62.

A charter vessel fishing trip, as defined at § 300.61, begins with the first deployment of fishing gear into the water from a charter vessel by a charter vessel angler. Charter vessel guides must use the ADF&G logbook to validate the number of stamps that are needed for that charter trip before this time, or prior to the first deployment of fishing gear on each calendar day of a charter vessel fishing trip that spans multiple days. This timing is consistent with Federal regulations that require charter vessel guides to enter the name and sport fishing license number of each charter vessel angler in a properly assigned ADF&G logbook before a charter vessel fishing trip begins (§ 300.65(d)(4)(ii)(B)(6)). This means that if weather, or other reasons, forces a charter vessel to return to port before fishing begins no stamp needs to be validated for that day.

For a given charter vessel fishing trip, a stamp is valid from the time that it is validated, Alaska local time, through 2400 on the calendar day on which it was validated, Alaska local time, and is not transferable between charter vessel anglers nor allowed to be used on any other charter vessel fishing trip. For purposes of stamps, a charter vessel excursion that spans more than one calendar day treats each calendar day in which fishing occurs as an individual charter vessel fishing trip, meaning that a stamp must be validated for each charter vessel angler on each calendar day before first deployment of gear. In the case of a charter vessel angler who goes on multiple charter vessel fishing trips in one calendar day, a stamp is required to be validated for that angler for each charter vessel fishing trip.

Current ADF&G regulations require charter vessel guides to upload or otherwise send their completed ADF&G logbook information to ADF&G on a regular schedule. The stamp validation information uploaded from ADF&G logbooks will be shared with NMFS. NMFS will then compare stamp validation information from the ADF&G logbook with the individual CHP holder stamp accounts in eFISH periodically during the fishing season, with a final update and comparison prior to December 31. In this way, CHP holder stamp accounts will contain a record of stamp purchases and validations. Due to the time lag between submitting the ADF&G logbooks and NMFS receiving the ADF&G logbook information, it may take several weeks for eFISH accounts to reflect validations. Charter halibut fishery participants, who may not be the CHP holder, will also be able to monitor validations through access to their ADF&G logbook data.

Additionally, this final rule includes flexibility in that stamp validations may occur even if stamps have not been purchased yet. For example, a CHP holder leasing their CHP may not know the exact number of validations charter vessel guide(s) operating under their CHP have used during the fishing year. The CHP holder has the option to buy any additional stamps they need for a given fishing year after all validations have occurred, with the only requirement that, within the time period prescribed by § 679.46(a)(1)(v), the CHP holder must purchase enough stamps to cover the validations indicated in their eFISH CHP holder account.

Charter Halibut Stamp Transferability

As discussed above, once purchased, stamps are linked to the eFISH account of the CHP holder who purchased them and all CHPs held by a CHP holder will be included in a single eFISH account, allowing stamps to be used freely across all CHPs on that account. Stamps do not expire and, if they have not been validated by the end of the fishing year, they may be validated in a future fishing year. If a CHP is revoked, transferred, or becomes invalid, or if a community charter halibut permit or military charter halibut permit is invalidated, the stamps remain linked to the account that held that CHP. Should another valid CHP be transferred to the person, or entity, associated with that eFISH account, the stamps will be available for use by the holder of the valid CHP.

This final rule does not allow a CHP holder to transfer stamps to another CHP holder. NMFS considered, but did not select options, to allow for transfer or reimbursement of unused stamps. Given the purchase-as-needed flexibility built into the RQE Program and the lack of an expiration date for stamps that have not been validated (used), NMFS determined that allowing stamp transfers and reimbursements would serve limited purposes and materially increase the complexity and administrative costs associated with the program, without proportionate benefits. The proposed RQE Program fee collection allows CHP holders to purchase stamps at any time during the season, allowing CHP holders to maintain an operable amount of stamps without the need to stockpile stamps, and to carry over unused stamps indefinitely.

The Fee for Charter Halibut Stamps

This final rule implements a $20 fee that will apply to each stamp required for a charter vessel angler who intends to catch and retain halibut. The $20 fee is expected to provide the RQE Program with meaningful funding to benefit the entire charter halibut fishery and halibut resource while limiting the cost burden experienced by the individual CHP holders that would pay the fee. Before selecting the $20 stamp fee amount, NMFS considered a range of fee amounts and options, which are further described in the preamble to the proposed rule, the RIR, and below under “Comments and Responses” in the responses to Comments 14 and 15.

Changes to the Fee

Under this final rule, the RQE may petition NMFS to increase or decrease the fee for the stamp beginning in 2028. The fee for the stamp may not increase by more than 10 percent of the fee in the previous fishing year. Any fee increases or decreases will be implemented as regulations through the rulemaking process. The RQE may petition NMFS to suspend the fee at any time. NMFS will provide the Council with an update on any fee increase, decrease, or suspension requests.

This final rule also allows for suspension of the stamp requirement and fee collection, if necessary. These regulations authorize NMFS to temporarily or permanently suspend fee collection if a petition from the RQE is received. This allows NMFS to stop or reduce the fee once the RQE has purchased all the QS it is authorized to hold, or for other reasons.

Additionally, these regulations allow the Regional Administrator to suspend the stamp requirement if the RQE is determined to be out of compliance with regulations, the RQE's own by-laws, or other applicable law; the Regional Administrator approves a petition by the RQE to suspend the RQE fee collection; or Congress no longer provides authorization for the Secretary of Commerce to collect and spend the fees.

Prohibitions

This final rule prohibits a charter vessel guide from using a charter vessel to catch and retain halibut in IPHC regulatory area 2C or 3A unless the charter vessel guide has completed a charter halibut stamp validation for each charter vessel angler, 18 years of age or older, for each charter vessel fishing trip in a given calendar day, or each calendar day during a charter vessel fishing trip that spans multiple days, that the charter vessel angler intends to catch and retain halibut. An exception to this prohibition is when a charter vessel angler retains halibut as GAF on a day that is otherwise closed to halibut retention by charter vessels by the annual management measures published pursuant to § 300.62.

Additionally, the final rule prohibits a charter vessel guide from validating a stamp after the charter vessel fishing trip has begun, or after the first deployment of fishing gear on each calendar day of a charter vessel fishing trip that spans multiple days. The final rule prohibits validating a stamp if the charter vessel guide does not have a valid CHP on board the charter vessel per § 300.67(a)(1). This final rule prohibits a CHP holder from failing to purchase or hold a number of charter halibut stamps equal to or greater than the number of charter halibut stamp validations that were performed under their CHP in a given fishing year.

Changes From the Proposed to Final Rule

This final rule includes the following substantive changes from the proposed rule to address public comments, clarify regulatory language, and to correct inadvertent errors in the proposed regulations. Throughout the regulatory text, NMFS also made technical and grammar edits to correct regulatory cross references, use consistent terms, remove redundancy, and promote clarity.

At § 300.61, NMFS added definitions with citations for the terms “Charter halibut permit holder,” “Charter halibut stamp,” and “Charter halibut stamp validation.” This change is intended to direct readers from § 300.61 to § 679.2, where the full definition may be found.

NMFS corrected the title of the ADF&G Saltwater Sport Fishing Charter Trip Logbook in the final rule at § 300.65 for “Charter vessel guide requirements” and at § 679.2 for “Charter halibut stamp validation.”

NMFS revised § 300.65(d)(4)(ii)(B)(11) to specify that the validation of stamps must occur before the charter vessel fishing trip begins, or prior to deployment of fishing gear on each calendar day of a charter vessel fishing trip that spans multiple days, consistent with the definition at § 679.2.

NMFS revised the definition of “charter halibut stamp validation” at § 679.2 as well as regulations at §§ 679.7(q)(2) and 679.46(a)(1)(i) to specify that validation of stamps must occur prior to first deployment of gear on a given calendar day for a charter vessel fishing trip that spans multiple calendar days. This modification to the final rule is consistent with the intent of the proposed rule that a stamp is required for each calendar day of a charter vessel fishing trip, and this clarifies the required timing of validation for charter vessel fishing trips that span multiple calendar days.

The proposed rule stated that a stamp must be validated for each charter vessel angler who is 18 years of age or older on board the charter vessel and intends to catch and retain halibut for each charter vessel fishing trip in a given calendar day, or each calendar day during a charter vessel fishing trip that spans multiple days, that the charter vessel angler intends to catch and retain halibut. In response to comments, NMFS removed the requirement to validate a stamp for charter vessel anglers who retain halibut landed as GAF on days that are otherwise closed by regulation to halibut retention under the annual management measures for the charter fishery (see the response to comment 12 in the Comments and Responses section below). Halibut retained as GAF are not included in the annual charter halibut allocations and GAF represent halibut QS that has already been transferred from the commercial halibut fishery to the charter halibut fishery. This change is reflected in the revised definition for “charter halibut stamp” at § 679.2. NMFS also revised the regulation at § 679.46(a)(1) to match the definition for “charter halibut stamp” and by adding a citation for GAF to direct the reader to the correct description of GAF as described at § 300.65.

NMFS revised this final rule from the proposed rule at §§ 679.7(q)(1), 679.46(a)(1)(ii), and 679.46(c)(2) to state that stamps must be validated for charter vessel anglers as specified at § 679.46(a)(1). NMFS notes that these changes do not extend to the use of GAF on days that are open to halibut retention by charter vessel anglers. On these open days, a stamp exemption for GAF would have the potential to undermine both the GAF and RQE Program fee collection, primarily due to the difficulty of accounting for, and enforcing, both bag limits and stamp requirements when halibut landed as GAF are mixed with non-GAF halibut onboard a charter vessel.

The proposed rule included a provision specifying that the RQE could petition NMFS to increase, decrease, or suspend the RQE Program fee collection beginning in 2028 as specified at § 679.46(b)(2). The regulations at § 679.46(d) outline how the RQE would petition NMFS to suspend the fee collection, which is not time-limited. The final rule resolves this inconsistency by revising regulations at § 679.46(b)(2) and adding § 679.46(b)(3) to clarify that the RQE may petition NMFS to suspend the fee at any time.

The proposed rule included a provision specifying that stamps must be obtained and applicable fees paid by persons who hold a CHP and a valid ADF&G sport fishing guide registration at § 679.46(c). This final rule removes the provision at § 679.46(c)(1) specifying that a valid ADF&G sport fishing guide registration is required. Therefore, under this final rule, any CHP holder, regardless of whether they hold a valid ADF&G sport fishing guide registration, will be responsible for obtaining stamps and paying applicable fees for the associated CHP. NMFS made this change because there is no requirement that CHP holders register as sport fishing guides. Therefore, to be consistent with the Council's intent that this fee collection applies to all CHP holders, NMFS removed the provision at § 679.46(c)(1) of the proposed rule. This final rule also revises § 679.46(c)(2) by removing the phrase “ensuring there is a charter halibut stamp that has received” in association with charter halibut stamp validation. This revision clarifies that the charter vessel guide is responsible for stamp validation but is not responsible for ensuring a stamp has been purchased.

Throughout the regulatory text, NMFS replaced references to “fee liability” with language better aligned with the stamp requirement established by this final rule, including “reconciliation,” “charter halibut stamp deficit,” and “outstanding charter halibut stamps.” NMFS also added the phrase “before the charter vessel fishing trip begins” to further clarify the intent of regulations. These changes are technical and do not modify any process or effect between the proposed and final rules. These changes are intended to more precisely describe the requirement that a stamp must be purchased for each stamp validation that occurs in a year.

Comments and Responses

NMFS received 129 comment submissions on the proposed rule. The comments were from individuals, sportfishing organizations, and fishing guides. Several comment submissions were duplicates or addressed topics outside the scope of the proposed rule. Overall, there was a mix of support and opposition, with those comments opposing the rule expressing concerns about the cost of stamps, the respective responsibilities of CHP holders, charter vessel guides, charter vessel operators, and charter vessel anglers, and the lack of transferability or refunds for purchased halibut stamps. Some commenters expressed concerns about the timing of the proposed and final rules with respect to when the charter halibut fishery occurs. NMFS has summarized the comment submissions and responded to 51 unique comments below.

Comments in General Support of This Action

Comment 1: The proposed rule captures the intent of the fee collection program. This was the product of 15 years of public outreach and the Council process at the request of charter halibut fishery participants and trade organizations. This program will provide benefits while not reducing public access to the resource or impacting sustainability.

Response: NMFS acknowledges the comment.

Comment 2: The RQE Program fee collection of $20 per day is not a cost that will prohibit or deter sport anglers. This is a small financial burden that provides massive benefit to the charter halibut fleet and is the appropriate amount to provide the RQE with purchasing power while also allowing the CHP holders to pass the cost of the stamp to the charter vessel anglers. This fee is also a smaller financial burden on individual CHP holders than purchasing IFQ and utilizing the GAF Program.

Response: NMFS acknowledges the comment.

Comment 3: Several commenters supported the concept of the RQE but requested adjustments to improve the administrative efficiency of the fee collection and to make it more user friendly.

Response: NMFS acknowledges these comments. NMFS has summarized and responded to all of the requested adjustments in the following sections of this response to comments. When appropriate, NMFS has modified the final rule in response to requested adjustments. NMFS also explains when a requested adjustment is not feasible and, therefore, NMFS did not make the change. A complete list of all the changes from proposed to final rule is in this preamble under “Changes from Proposed to Final Rule.”

Comment 4: Currently, the allocation to the charter sector is not sufficient for reasonable opportunity to retain halibut at the current abundance levels in IPHC regulatory area 2C. The RQE will increase opportunities by utilizing the fee component to purchase halibut QS. The RQE could result in less restrictive regulations for the charter halibut fishery, despite the halibut resource being at a 30-year low. The RQE Program fee collection is a good step towards shifting allocation and creating a viable fishery without implementing a permanent stamp fee that cannot be suspended or altered.

Response: NMFS acknowledges the comment.

Comment 5: This fee collection will allow the charter fleet to compete with the self-guided fleet. Avoiding charter closure days and increasing the size limits will create more equity with the self-guided fleet, which is allowed to retain two halibut per person per day with no size restrictions.

Response: NMFS acknowledges the comment.

Comment 6: The charter halibut fleet, and the idea of catching halibut, brings many tourists to Alaska. As a result, local communities benefit from various taxes and the money spent directly at local establishments, which also supports local employment. The RQE Program and associated fee collection help maintain the stability of the charter fleet despite current allocations and dwindling stocks, keeping more charter halibut fishery participants in business.

Response: NMFS acknowledges the comment.

Comment 7: Information received through email flyers and local outreach meetings were useful in informing participants and directing them to comment on the proposed rule.

Response: NMFS acknowledges the comment.

Comment 8: The charter sector should purchase their share of halibut QS. This rule addresses that.

Response: NMFS acknowledges the comment.

Comments on Provisions of the Act Authorizing the Fee

Comment 9: The charter halibut stamp should function similarly to the ADF&G king salmon stamp, meaning that it is purchased by the charter vessel angler, not the CHP holder. Additionally, this fee collection should apply to all anglers, including self-guided anglers, and all non-resident anglers.

Response: NMFS disagrees. Congress, through the Act, authorized regulations necessary for the collection of fees from charter vessel operators who guide recreational anglers who retain halibut in IPHC regulatory areas 2C and 3A. As such, NMFS is not authorized to collect fees from charter vessel anglers, or any other individual anglers such as self-guided anglers, nonresident anglers, or resident anglers for charter halibut stamps.

Furthermore, funds collected under this action will benefit only the charter halibut sector. Therefore, there is no equitable reason to include anglers outside the charter halibut sector in this fee collection, even if NMFS did have authorization to collect fees from them.

Comment 10: Research and promotion of the halibut resource should not be an authorized use of funds generated from the fee collection.

Response: Congress specified, through the Act, that any fees collected shall be available for financing administrative costs of the RQE Program; the purchase of halibut QS in areas 2C and 3A by the RQE; halibut conservation and research; and promotion of the halibut resource by the RQE. This action does not address authorized uses of fees collected by this program. NMFS has no authority or discretion to modify laws passed by Congress.

Comment 11: What is the estimated amount of funds that will be available for purchasing QS, compared to the amount of funds for administration, conservation, or promotion of the halibut resource?

Response: As discussed in response to comment 10, the Act allows fees to be used for these purposes. The Act does not specify any specific allocation of fees among the authorized uses of the collected fees. It is expected that fees collected by this program will be primarily used by the RQE to purchase halibut QS, consistent with the intent of the RQE Program. Section 3.5.1.2 of the RIR discusses the expected revenue amounts from this fee collection. The RIR indicates that the estimated average annual revenue from stamp purchases would be $1,788,687 from IPHC regulatory area 2C and $2,205,645 from area 3A. NMFS anticipates issuing funds collected from this program to the RQE as a grant. These grants will include NMFS oversight and may include stipulations on the allowable use of funds.

Comments on GAF and the RQE Program Fee Collection

Comment 12: Stamps should not be required for charter vessel anglers when the charter halibut fishery is closed to halibut retention under the annual management measures for the charter fishery, but the retention of GAF is still allowed. GAF constitutes a transfer of halibut from the commercial IFQ sector and is not part of the annual guided halibut allocation.

Response: NMFS agrees with this comment. NMFS changed this final rule to remove the halibut stamp requirement for GAF users on days that are otherwise closed to halibut retention under the annual management measures for the charter fishery by revising the definition of “charter halibut stamp” at § 679.2 to specify that the stamp does not apply to charter vessel anglers who retain halibut as GAF, as defined at § 300.61, on days that are otherwise closed by the annual management measures for the charter fishery to halibut retention. NMFS also revised the regulation at § 679.46(a)(1) to match the definition for “charter halibut stamp” at § 679.2. To consolidate references to the applicability of stamps, NMFS revised this final rule at §§ 679.7(q)(1)(i), 679.46(a)(1)(ii), and 679.46(c)(2) to state that stamps must be validated for charter vessel anglers as specified at § 679.46(a)(1).

Annual charter halibut management measures in IPHC regulatory areas 2C and 3A often prohibit the retention of halibut by charter vessel anglers on specific days of the week. However, as noted in this comment, these prohibitions typically do not prohibit the retention of GAF halibut on the closed days because halibut retained as GAF are not included in the annual charter halibut allocations. In addition, GAF represent halibut QS that have already been transferred from the commercial halibut fishery to the charter halibut fishery. Additional information about the GAF Program is in the preamble under “Guided Angler Fish (GAF) Program.”

NMFS determined these facts provide sound rationale to remove the halibut stamp requirement for charter vessel anglers who retain only GAF halibut on days that are otherwise closed by regulation to halibut retention under the annual management measures for the charter fishery.

NMFS notes that this change does not extend to the use of GAF on days that are not closed to halibut retention. On these open days, a stamp exemption for GAF has the potential to undermine both the GAF and RQE Program fee collection, primarily due to the difficulty of accounting for, and enforcing, both bag limits and stamp requirements when halibut landed as GAF are mixed with non-GAF halibut onboard a charter vessel.

Comment 13: The RQE Program and associated fee collection are unnecessary because GAF already provides a way for charter businesses to purchase more halibut QS.

Response: NMFS disagrees that the RQE Program and associated fee collection are unnecessary. Both the GAF Program and the RQE Program provide unique benefits to the charter fishery. GAF are intended to benefit individual charter operations by providing a means to temporarily transfer a limited amount of halibut IFQ from the commercial halibut fishery to individual charter vessel guides. This differs from the RQE Program, which allows the RQE to hold halibut QS indefinitely and is designed to benefit all charter operations in IPHC areas 2C and 3A.

NMFS also notes that CHP holders who currently participate in the GAF Program will likely benefit from both programs. That is, all CHP holders will benefit from less restrictive annual management measures and holders of GAF will also continue to benefit from GAF to retain large fish or fish on days otherwise closed to halibut retention.

Comments on Stamp Structure and Fee Amount

Comment 14: The stamp fee should be a different price than $20. Several commenters suggested a price of $10 per stamp. Selecting the $20 fee over lesser costs is unreasonable in light of the last-minute changes recommended by the Council in October 2024.

Response: NMFS disagrees with this comment. This final rule establishes a fee of $20 for charter halibut stamps, as recommended by the Council after extensive analysis and public comment. The $20 fee is expected to strike a balance between providing a meaningful amount of funding to benefit the charter fishery while also limiting the annual cost burden. Section 3.5.1.3 of the RIR shows expected revenue to the RQE at various stamp fee amounts. The $20 fee amount is intended to allow the RQE to relatively quickly purchase a reasonable amount of halibut QS to supplement the charter halibut allocation while also representing a nominal increase to the total cost of a charter halibut fishing trip. Beginning on January 1, 2028, the RQE may petition NMFS to increase or decrease the fee for the stamp. Changes to the fee amount will be subject to a regulatory action and all relevant Federal requirements, including an analysis of alternatives and opportunities for public input. NMFS will provide the Council with an update on any requests to modify or suspend the fee for a charter halibut stamp. As discussed in response to comment 15, a $20 fee for each stamp is reasonable considering the analysis and the Council's decision to remove the tiered fee structure in October 2024.

Comment 15: The stamp should resemble the ADF&G king stamp by implementing a one-day, three-day, seven-day or seasonal stamp with discount rates as originally recommended by the Council in 2022. This would reduce costs to anglers and administrative burden to charter halibut fishery participants who would not have to validate stamps each day for anglers fishing multiple days. This would also make it easier for charter vessel guides to adjust their fishing plans on a multi-day trip without having to commit to validating a stamp each day prior to fishing when they may not end up fishing for halibut due to weather or other reasons.

Response: NMFS disagrees with this comment. The Council's original recommendation called for a tiered fee structure for stamps. Although tiered fees are common among State of Alaska stamps and licenses, all the State of Alaska tiered fees that were analyzed for this action are linked to a specific person and must be purchased by the person intending to fish. Applying tiered fees to a daily halibut stamp would greatly add to the complexity and cost of the RQE Program because the stamps would need to be assigned to specific anglers and tracked across multiple days, vessels, and potentially ADF&G logbooks.

As noted in the RIR, in April 2022, the Council recommended a tiered fee structure for halibut stamps, with a base fee of $20 for a daily stamp, and tiered to $40 for a three-day stamp and $60 for a seven-day stamp. After Federal law was amended in early 2023 to authorize the RQE fee collection through the Act, NMFS further analyzed implementation of the fee collection program. This effort included outreach sessions with participants in the charter halibut fishery in several communities located in IPHC regulatory areas 2C and 3A in 2023 and early 2024. NMFS and Council staff subsequently prepared a discussion paper on the halibut stamp fee implementation, and in June 2024 presented the paper to the Council. Among other things, the paper established a rationale for a uniform $20 stamp fee instead of tiered fees. The Council addressed this topic again in October 2024 and took action to amend their original April 2022 motion and to adopt and recommend the uniform $20 stamp fee to the Secretary of Commerce.

During the outreach process, participants in the charter halibut fishery pointed to a lack of equity among fishing businesses if tiered fees were implemented. CHP holders that cater almost exclusively to one or two-day trips would be responsible for paying fees at the highest level, while other operations that log the same number of angler days, but whose guests tend to fish for three or more days, would contribute disproportionately less to the RQE. Ultimately, the Council recommended, and NMFS is adopting, a single daily fee to establish a simple, less costly program that ensures specific business types are not arbitrarily penalized, and all CHP holders will contribute equally to the RQE fee collection based on the number charter vessel angler halibut fishing days. These issues are also described in Section 3.5.1.3 of the RIR.

Comment 16: The removal of the multi-day stamp option adversely impacts the intent-based validation of stamps. Charter vessel guides may have to validate a stamp for every fishing trip, regardless of target species. It is unrealistic to expect enforcement officers to intuitively determine target species at sea.

Response: NMFS disagrees with this comment. The charter halibut stamp validation process and enforcement of the validation is the same for a single day trip or a multi-day trip. The requirement for a halibut stamp is based on whether the charter vessel angler intends at the beginning of each charter vessel fishing trip to catch and retain halibut. From an enforcement perspective, the presence of retained halibut onboard a charter vessel after a charter vessel fishing trip has begun will evidence the need for validated stamps for that charter vessel trip. In any case, under the Council's recommendation, a multi-day stamp would require validation prior to the start of a charter vessel fishing trip on any given day. Functionally, this would be the same as a daily stamp. This final rule does not prohibit the catch and release of halibut without a charter halibut stamp validation. Rather, a charter halibut stamp validation is required only if a charter vessel angler intends to both catch and retain halibut.

Comment 17: Unused stamps should be refundable or, at least, transferable. This will cost the CHP holder money as these stamps are not able to be refunded or validated a second time.

Response: NMFS disagrees. As described in this preamble under “Charter Halibut Stamp Transferability,” NMFS considered, but decided against, allowing for the transfer and reimbursement of purchased stamps. Given the purchase-as-needed flexibility built into the RQE Program fee collection, NMFS determined that allowing stamp transfers and reimbursements would serve limited purposes and materially increase the complexity and administrative costs associated with fee collection without proportionate benefits. CHP holders are allowed to purchase stamps at any time during the season, allowing CHP holders to maintain an operable amount of stamps without the need to stockpile stamps. CHP holders may also lease their CHPs to other users to deplete any unused stamps prior to the transfer of a CHP. Additionally, CHP holders are able to reconcile stamp deficits at the end of the year without penalty. Furthermore, stamps not used in a fishing year do not expire and roll over into all subsequent fishing years until used (i.e., validated).

Comments on the Impacts of the RQE Program and Associated Fee Collection

Comment 18: This proposed rule precedes the development of operating rules for the RQE, which creates uncertainty regarding how the RQE will function on behalf of the diverse businesses funding it. Commenters noted that there are no requirements on RQE board membership imposed by the proposed rule. How does NMFS intend to prevent the RQE from using funds from this fee collection improperly or operating inefficiently?

Response: This action does not address the existing regulations governing the RQE and any changes to these regulations are outside of the scope of this action. NMFS published a proposed rule to authorize the formation of the RQE on November 17, 2017 (82 FR 46016). NMFS considered implementing requirements on RQE board members but ultimately proposed that no requirements be specified. NMFS received no comments requesting NMFS specify requirements for the RQE board. The final rule to authorize the formation of the RQE did not specify requirements for RQE board members (83 FR 47819, September 21, 2018).

Existing regulations, at §§ 679.5(l)(9) and 679.5(v), require the RQE to submit an annual report to NMFS detailing its activities. This report will provide information on the RQE's structure, expenditures, and other activities such that compliance with applicable law and regulations can be determined. Additionally, the RQE must continue to be recognized as exempt from Federal income tax by the Internal Revenue Service. If the RQE is determined to be out of compliance with regulations, the RQE's own by-laws, or other applicable regulations, the Regional Administrator may suspend the stamp requirement and fee collection, as specified at § 679.46(d).

NMFS will maintain administrative oversight of the RQE operations, including the appropriate use of funds, by virtue of the stipulations and conditions associated with the NMFS grant of funds to the RQE.

Comment 19: The stamp fee and fee increase provision are not appropriate, as the RQE board members and NMFS may change the stamp fee with no additional input from the CHP holders who are subject to paying that increase.

Response: NMFS disagrees that changes to the fee could occur with no input from the CHP holders who are responsible for paying those fees. While the RQE may petition NMFS to initiate a fee change request, any eventual increases to the stamp fee would entail a regulatory amendment because the fee is set in regulation at § 679.46(b)(1). NMFS will comply with all necessary steps required under Federal law, including public input, in promulgating a regulatory amendment. NMFS would consider all comments from the public when deciding to develop any rule implementing a fee change.

Comment 20: Please clarify how the charter halibut fleet will see benefits that result from the fee collection. Will there ever be enough RFQ to lessen restrictions on the charter halibut fleet? When will the RQE purchase halibut QS? What is the endpoint for RQE QS purchases? Will the RQE or NMFS determine when to purchase additional QS?

Response: NMFS expects this action to provide significant funding for the RQE to obtain halibut QS, as explained in the RIR for this action (see ADDRESSES). It is expected that fees collected by this program will be primarily used by the RQE to purchase halibut QS. The RQE will determine when to purchase halibut QS and the resulting poundage will be added to the charter halibut allocation as RFQ under the CSP. The RIR indicates how these additions to the charter halibut allocation could provide greater opportunities for charter vessel anglers.

In order for the RQE to receive funds from this action, Congress must first appropriate collected funds to NMFS. NMFS then expects to issue funds to the RQE as a grant as soon as practicable. It may be reasonable to expect that Congress appropriates these funds annually. For example, fees collected during the 2026 fishing year could be appropriated to NMFS in 2027 if Congress takes the necessary action. After the appropriation is made, NMFS will work to make these funds available to the RQE as soon as practicable. Once the RQE receives these funds, the RQE will determine when to purchase QS.

Existing regulations allow the RQE annually to purchase up to 1 percent of the commercial QS in IPHC regulatory area 2C, and 1.2 percent of the QS in area 3A, subject to certain restrictions on particular classification types of QS (§ 679.42(f)(8)). Cumulatively over time, existing regulations allow the RQE to hold an amount of halibut QS equivalent to up to 10 percent of the halibut QS in IPHC regulatory area 2C and 12 percent of the halibut QS in area 3A (§ 679.42(f)(8)). The RIR indicates this cumulative amount would have added 341,000 pounds to the IPHC regulatory area 2C charter allocation, and 846,000 pounds to the area 3A charter allocation, based on the QS/IFQ conversion rates in 2020. These amounts are expected to be meaningful when the annual management measures are developed. The additional pounds could allow for less restrictive annual management measures such as bag limits, size limits, and day of the week closures, and in the event of declines in the halibut resource could help avoid more conservative management measures which would further constrain the charter halibut fishery.

Comment 21: Will future CHP entrants that have not paid into the RQE Program fee collection benefit from the QS purchased in previous years?

Response: Yes. QS purchased by the RQE may be held indefinitely and the added allocation from that QS will be available to all CHP holders operating in IPHC regulatory areas 2C and 3A. It should also be noted that existing CHP holders may benefit from increased permit values if the RQE Program increases charter halibut harvest opportunity as it is designed to do.

Comment 22: The RQE should not be allowed to continue using the fee funding to purchase QS should the halibut stock continue to decline. Many commenters were concerned about the potential conservation impacts of this action would have on the halibut stock in its current low abundance state.

Response: Existing RQE regulations at § 679.42(f) establish limits on the amount of QS that the RQE can receive by transfer annually and in total, as explained in the response to comment 20. However, as noted above, Congress authorized stamp fees to be used for other activities besides QS purchases. Those uses may factor into decisions about the amount of the fee, or whether the stamp program should continue. Regardless, after 2028 the RQE may petition NMFS to reduce the stamp fee, or the RQE may petition to suspend the fee at any time.

The RQE Program and associated fee collection action are specifically intended to provide additional harvest opportunities to the charter halibut fishery, particularly during periods of low halibut abundance through a market-based transfer of halibut QS from the commercial sector to the charter halibut sector. This action also provides mechanisms to reduce or suspend the fees in the event they are no longer required or beneficial to the charter industry.

This action is not expected to result in increased impacts to the halibut stock. The RQE Program and the regulations addressed by this final rule for this fee collection program do not change the total halibut mortality limits established annually by the IPHC. As such, if the halibut stock were to decline, the amount of halibut associated with the QS purchased with fee funding would be adjusted according to the limits established on an annual basis. As noted above and in the preamble to the proposed rule, the RQE Program merely represents a voluntary (i.e., willing buyer, willing seller) transfer of halibut harvest opportunity from one sector (the directed commercial fishery) to another (the charter halibut fishery) in IPHC regulatory areas 2C and 3A, with no overall increase in halibut harvest.

Comment 23: This proposed fee collection adds a substantial cost to participants in the charter halibut fishery, despite the cost per charter vessel angler being $20 per day or per charter vessel fishing trip. This additional cost burden will negatively impact businesses and increase the end cost to charter vessel anglers. Moreover, prices for the 2025 fishing year have already been posted, and this is a new cost to the business not previously factored in. Charter vessel anglers often reserve charter trips one to two years in advance, meaning that charter businesses may not be able to collect this fee, or will have to adjust prices retroactively, which is problematic to clients that have already paid some or all of the previously agreed upon price. To address this, if this action is approved, those commenters recommended delaying fee collection implementation until 2026 or 2027 to allow charter businesses time to adjust and notify future clients.

Response: NMFS agrees that this final rule should be implemented in 2026 to avoid disruptions to business operations from a mid-season implementation, including the disruptions identified in public comments. NMFS set the effective date of this final rule to January 1, 2026.

NMFS acknowledges that this action, which has been in development since 2019, results in additional costs to CHP holders and charter businesses, which they may choose to pass on to other charter halibut fishery participants. The impacts are described in detail at Section 3.5.5 of the RIR. However, over the long term, this action is expected to benefit the charter halibut sector participants by increasing the charter sector's share of the annual halibut allocation.

Public comments and the RIR that led to this action suggest that some or all of these additional costs will be passed on to charter vessel anglers, thereby spreading the burden of the payments to others who may also benefit from an increased charter halibut allocation.

NMFS recognizes that the total sum of fees paid for halibut stamps in a given fishing year is substantial. With the $20 stamp fee, as noted in section 3.5.5 of the RIR, the average cost to a charter halibut business is estimated to be approximately $5,600 annually in IPHC regulatory area 2C and $7,500 annually in area 3A. In both IPHC regulatory areas the maximum cost could be over $50,000 for some CHP holders. The estimated total annual revenues from stamps in IPHC regulatory area 2C is $1.79 million, and $2.20 million from area 3A. Section 3.5.1.2 of the RIR further discusses the potential revenue from the stamp. However, NMFS notes that these costs are also proportional to the gross revenue of the business because the number of stamps is equivalent to the number of charter vessel anglers served. Disproportionate costs on smaller entities are one of the more important reasons that the Council chose not to recommend, and NMFS has not implemented, a flat fee on CHP holders or a multi-day stamp sold at a discounted rate.

Furthermore, NMFS recognizes that charter vessel anglers currently pay a significant amount to participate in the charter halibut fishery. NMFS considered this when developing this action. If considered in the context of costs for travel, lodging, and meals associated with the charter vessel fishing trip that are also required, the impact of this additional fee on individuals is marginal. The $20 fee amount is small relative to the existing costs of participating in the charter halibut fishery while also providing significant funding to the RQE which should yield additional harvest opportunities to charter fishery participants through a market-based transfer of halibut QS from the commercial fishery to the charter fishery. The structure of the halibut stamp program allows the flexibility of CHP holders to share those costs with other participants in the charter halibut fishery if they choose to do so.

Comment 24: Costs imposed by the RQE Program fee collection encourages nonresident anglers to choose self-guided charters.

Response: As described in the response to Comment 23, the $20 stamp amount is not significant in the context of total costs to participate in the charter halibut fishery. The RIR indicates that the great majority of charter vessel anglers fish for halibut for one to three days. If charter halibut businesses pass the entire cost of halibut stamps to their anglers, this would add $20 to $60 in fees for these anglers. CHP holders may choose to pass along only some or even no additional costs to charter vessel anglers. Therefore, it is unclear whether this additional cost will negatively impact the number of persons who choose to participate in halibut charter fishing, particularly if the net benefits of the RQE Program provide more harvest opportunities to charter vessel anglers.

Comment 25: The proposed fee collection is more beneficial to certain charter halibut fishery participants. CHP holders with a large number of lessees and single vessel owners do not benefit equivalently to charter halibut fishery participants deploying multiple vessels from a larger port.

Response: The RQE Program and this fee collection are intended to broadly benefit the entire charter halibut fishery through equitable contributions from all users. As halibut abundance continues to fluctuate, the fees collected from this action may be important to stabilize management measures such as bag limits and day-of-the-week closures that can have significant impacts to certain charter business models and may potentially provide growth opportunities to other charter halibut fishery participants that can take advantage of relaxed management measures.

Comment 26: IPHC regulatory areas 2C and 3A should have fee collection funds allocated proportionally to each area based on the fee revenue generated from each respective area.

Response: NMFS disagrees. Total fees collected from IPHC regulatory areas 2C and 3A will be directly proportional to the number of charter vessel anglers on charter vessel fishing trips in each area. The RQE, which is composed of board members who represent each of the IPHC regulatory areas, has the discretion to purchase proportional amounts of halibut QS for each area. Reasons the RQE may not choose to purchase QS proportionally in each area during each year would likely be related to market conditions, including QS availability in each area and pricing.

Comment 27: NMFS is not using all relevant data and should conduct additional analyses before continuing with this action. Many aspects of the proposed fee collection have changed since the Council first took action: the GAF Program is working well for charter halibut fishery participants who want to market opportunities to catch larger halibut or avoid daily closures; the halibut resource is in a precarious state, which raises questions as to whether the RQE will be able to purchase enough QS to influence annual regulatory measures; the sportfishing industry continues to grow, showing that many charter halibut fishery participants can successfully sell trips even with the current size limits; and the Council has refused to address the unregulated growth in self-guided fishing trips.

Response: NMFS has determined that the RIR is sufficient to support the regulations adopted by this final rule. The RIR, the analysis that supported the development of the RQE Program, and comments received on the proposed rule clearly indicate how a greater share of the combined halibut catch limits to the charter sector may allow charter businesses to offer greater opportunities to their clients. Both the GAF Program and the RQE Program are intended to help maintain these opportunities and are especially relevant in periods of low halibut abundance when annual management measures are necessarily restrictive.

NMFS agrees that the GAF Program is working as intended. The success of this program provides evidence that willing buyer-willing seller options to shift halibut allocation from the commercial sector to the charter sector are valid, effective, and reasonable. NMFS notes that the GAF Program is designed to benefit individual participants in the charter halibut fishery, while the RQE Program benefits the charter sector as a whole. Each program will continue to operate concurrently.

While regulating unguided fishing trips is outside of the scope of this action, the Council previously evaluated this issue in 2019 and decided to take no action due to several factors, including challenges in quantifying the number and geographic scope of non-guided rental boat activities and determining the amount of halibut effort and removals that might be associated with this form of unguided recreational halibut fishing. However, the Council process allows the public to raise such concerns as new information becomes available.

Comments on Stamp Accounts and Fee Collection Administration

Comment 28: The Act authorizes fees to be collected from the charter vessel operators. The RQE Program fee collection should require charter vessel operators or charter vessel guides to purchase stamps.

Response: NMFS disagrees. Section 6 of the Act authorizes the development of regulations “for the collection of fees from charter vessel operators.” We do not interpret this provision so restrictively to mean that only a charter vessel operator can be required to purchase stamps. The CHP holder would otherwise be indirectly responsible for the failure to purchase stamps and is in a better position to directly carry the burden of purchasing them. This rulemaking therefore imposes that obligation on the CHP holder, consistent with Congress' intent, purpose, and plain meaning of the Act. Indeed, under longstanding regulations at § 300.67(a)(1), every CHP holder is obligated to ensure that associated charter vessel operators and charter vessel guides comply with all applicable regulatory requirements. Further, CHP holders commonly are the charter vessel operators themselves.

There are also additional reasons to impose the obligation to purchase stamps on CHP holders. If NMFS was to impose that duty on charter vessel operators, the costs of administering this program would increase markedly. Charter vessel guides and charter vessel operators are often employees of the CHP holder and they hold no durable link to NMFS or the charter halibut regulatory programs. Conversely, CHP holders already have established an annual administrative relationship with NMFS. As a result, if charter vessel operators were required to purchase stamps, many new administrative accounts would have to be created. Ultimately, this would mean that there would be a much higher number of eFISH users, the number of eFISH users could change significantly each year, and the technical support that NMFS would need to provide to maintain this system would significantly increase costs. Because the Act authorizes the deduction of administrative costs from the fees collected, this would reduce the benefits of the RQE Program, which would be at odds with Congress's intent and purpose in passing the Act. The requirements for CHP holders in the RQE Program are also consistent with other NMFS regulations that obligate persons or business entities who hold exclusive fishing rights to ensure regulatory compliance for most of the actions associated with their permits (e.g., § 679.85(a)(1)).

Finally, collecting fees from CHP holders will make the RQE fee collection provisions more readily enforceable than collecting fees from charter vessel operators. In the event of a stamp deficiency, NMFS's only remedy would be to pursue collections against charter vessel operators, who are not required to register otherwise with NMFS. This contrasts with program enforcement for CHP holders, who are limited in number and have greater incentives to timely pay any stamp deficiency and, therein, ensure their CHPs are current and active. Indeed, a CHP is an important asset that a holder has a vested interest in maintaining, and it must be registered with NMFS annually before use. NMFS can require payment of outstanding fees before renewing a CHP.

Comment 29: The RQE Program fee collection places an extra burden on the CQE to purchase and manage stamps in their account throughout the fishing year.

Response: NMFS acknowledges this comment. As described in the proposed rule, CQEs participate in the Charter Halibut Limited Access Program and may be granted Community CHPs by NMFS. Charter operations that use community CHPs are subject to the same annual management measures as all other charter halibut operations. The administrative and management burden by CQEs and all other charter halibut operations are expected to be offset by the benefits of the RQE Program. NMFS designed the elements of the fee collection to minimize the administrative burden to the extent practicable. CQEs would have significant flexibility to administer their stamps in the way that is most advantageous to them.

Comment 30: Only CHP holders are allowed to use accounts to purchase stamps, but some CHP holders lease permits to charter vessel guides who do not hold CHPs. In addition to added difficulties tracking validations across multiple CHPs, this creates tax challenges for the CHP holder as well as the lessee without proper tax documentation, such as receipts. A charter vessel guide should be able to purchase stamps to use in his business. In particular, charter vessel guides leasing a nontransferable CHP should be responsible for purchasing and tracking the stamps associated with that CHP.

Response: NFMS disagrees. As the commenters note, CHPs are commonly leased, and the charter vessel guide who leases, or otherwise uses, the CHP may not be the person who holds or owns the CHP. The CHP holder will ultimately be responsible for ensuring that an adequate number of stamps has been purchased to cover the number of stamp validations that are made by the person who leases, or otherwise uses, the CHP. This action does not limit the ability of CHP holders to incorporate terms related to stamps into their private CHP lease agreements.

NMFS does not expect that this program design will create additional tax challenges. As with any fee paid to lease a CHP, the cost of stamps may simply constitute a business expense. While NMFS would not provide a record of stamp transactions directly to the person leasing a CHP, as NMFS does not regulate and does not have, or provide, any record of CHP lease transactions, there is nothing preventing this from being documented in a private business agreement. A CHP holder may share the record of stamp validations associated with a CHP that will be provided to them in eFISH with any person leasing their permit as supporting documentation.

NMFS will provide a record of stamp validations to the CHP holder that includes validations by individual CHP to CHP holders with multiple CHPs. Additionally, ADF&G logbooks will provide a record of all the stamp validations that charter vessel guides made that are associated with that charter business.

NMFS also notes that ADF&G logbooks are equipped to allow logbook users, such as the charter vessel guide, to individually query the historical data they have supplied on the logbook. Therefore, a charter operation that leases one or more CHPs will have ongoing records of the number and date of halibut stamp validations that have occurred on each of their charter vessel trips. This information is sufficient for the business needs of the charter operations, including for CHP lease transactions and tax purposes.

Finally, NMFS disagrees that the applicability of and responsibility for these fee collection provisions should vary between transferable and non-transferable CHPs because these permits are functionally identical except for transferability. The transferability of a CHP does not affect whether a CHP may be leased or not and does not affect the respective responsibilities of the lessee or lessor. Therefore, there is no rationale establish differential requirements for tacking and purchasing stamps between transferable and non-transferable CHPs.

Comment 31: CHP holders who lease their CHP to multiple charter vessel guides may have issues tracking stamp validations. Stamps should be assigned to the charter vessel guides and specific CHPs, instead of being lumped into a single eFISH account. CHP holders who hold multiple CHPs should be allowed to create individual eFISH accounts for each CHP to ease the burden of tracking individual lessees and their validations.

Response: NMFS disagrees. Tracking the use of charter halibut stamps will begin with halibut stamp validation on ADF&G logbooks. Among other things, logbooks document the CHP serial number(s), the vessel number, and identifiers for the ADF&G registered business that is associated with each charter vessel trip. The logbook data will be collected by ADF&G and shared with NMFS. NMFS intends to merge this data to the eFISH account of each CHP holder. The compiled records in the CHP holder's account will allow the CHP holder to effectively track the daily validation of stamps associated with each unique CHP.

Assigning stamps to charter vessel guides and specific CHPs would materially increase the cost, complexity, and burden of the RQE Program fee collection. Specifically, a CHP, and NMFS, would have to individually administer access and payment to a separate account for each CHP they hold. Given the flexibility allowed in CHP leasing, adjustments to these individual accounts would likely have to be made multiple times per year. Therefore, while it is possible that certain CHP holders who lease multiple CHPs could benefit from stamp accounts associated with individual CHPs, on the whole this approach would result in significant additional administrative cost and time burden associated with the program. Therefore, NMFS chose to have a single stamp account associated with each CHP holder for all of their CHPs.

Comment 32: Charter vessel guides who lease a permit through a broker may not know the CHP holder personally. Please clarify what happens if the CHP holder does not purchase the necessary stamps for the charter vessel guide.

Response: CHP holders are responsible for maintaining an eFISH account and purchasing enough stamps to ensure that the number of validated stamps from charter vessels that use their CHP(s) does not exceed the number of stamps that have been purchased in a given year as required.

If a charter vessel guide validates a number of stamps in excess of the number of stamps purchased by the CHP holder, the CHP holder is responsible for reconciling the deficit. If the deficit is not reconciled within the required time period, the CHP holder will receive an Initial Administrative Determination imposing one or more of the following consequences. Under these circumstances, NMFS may disapprove the transfer application of the CHP and all associated CHPs from that CHP holder until the outstanding stamps are purchased to correct the deficit, except that NMFS may return unused GAF to the IFQ permit holder's account from which it was derived. NMFS may also disapprove a CHP holder's annual registration application for their CHP and all associated CHPs until the outstanding stamps are purchased. Under similar circumstances, NMFS may also invalidate a community or military CHP.

Comment 33: The RQE fee collection will cause logistical issues for charter vessel guides that operate out of remote ports.

Response: NMFS disagrees. This program's design prioritizes flexibility to account for the unique qualities of the many business models that operate under the Charter Halibut Limited Access Program. For example, stamps may be purchased at any time, and in quantities that make sense for a particular business. That means charter vessels operating out of remote ports may purchase stamps at their convenience when CHP holders have access to their eFISH account. Further, validation of stamps can occur anywhere, including in remote areas, just as charter vessel guides currently comply with all other logbook requirements.

In the event a charter vessel guide has an insufficient number of stamps, they may continue to operate, but the holder of the CHP that the charter vessel guide is operating under must correct the deficiency prior to the end of the calendar year. The stamp validation reconciliation occurs at the end of each calendar year, well after all known charter fishing operations cease for the year.

Comment 34: Please clarify whether there is a limit on the number of stamps a CHP holder may purchase.

Response: There is no limit to the number of stamps a CHP holder may purchase.

Comment 35: ADF&G should administer stamp purchases.

Response: NMFS disagrees. The RQE Program fee collection is a Federal initiative. ADF&G has agreed to let NMFS rely on its infrastructure to the extent practicable through use of the ADF&G logbook for validation of stamps. To minimize costs, decrease the time it takes to transfer funds to correct Federal accounts for eventual distribution to the RQE, and to ensure the accountability of CHP holders, NMFS will use its existing, secure eFISH program for stamp purchases.

Comments on the Enforcement of the RQE Program Fee Collection

Comment 36: At-sea enforcement of the RQE Program fee collection will be a lengthy and costly process. Please clarify the nature of penalties and who will be held liable.

Response: NMFS anticipates that most RQE Program fee collection enforcement activities will be conducted during the course of existing enforcement activities and therefore will not add significantly to existing enforcement costs. CHP holders are responsible for purchasing a sufficient number of stamps to meet or exceed the number of validations associated with their CHP(s) in a given fishing year. Charter vessel guides are responsible for validating stamps prior to the start of each charter vessel fishing trip, or each calendar day during a charter vessel fishing trip that spans multiple days. The penalties for failing to meet these responsibilities are set forth in statute and regulation and are assessed according to the NOAA Penalty Policy and, for certain violations, according to NOAA Summary Settlement Schedules (see https://www.noaa.gov/general-counsel/gc-enforcement-section/penalty-policy-and-schedules).

Comment 37: NMFS's collection of fees for its administrative role in the RQE Program fee collection should be offset by the cost recovery fees the RQE pays to NMFS. Over half of NMFS's annual budget from cost recovery is spent on enforcement, and enforcement of the RQE Program fee collection is not likely to impose significant additional demand on the agency. NMFS should provide transparent detailing of costs to be reimbursed in an annual itemized report that is made available to the public.

Response: NMFS developed this final rule to minimize administrative costs to the extent practicable, including those related to enforcement. Cost recovery fees (i.e., IFQ Program cost recovery) paid by the RQE to NMFS would be used to recover eligible costs related to the IFQ Program, which may offset some portion of the total administrative costs of the RQE Program. However, NMFS does not expect that all of its costs to administer the RQE Program are eligible for reimbursement under IFQ Program cost recovery. The remainder of NMFS's administrative costs related to the RQE Program may be recouped from the RQE Program fee collection as the Act provides. More detail on expected enforcement costs related to this action is provided in the response to comment 36. NMFS will continue to work to minimize costs during implementation and operation of the RQE Program fee collection. Additionally, NMFS will evaluate agency expenses each year and provide the public with a report consistent with its existing cost recovery reporting practices.

Comments on Stamp Validation

Comment 38: This action impacts the flexibility of extended fishing trips or trips impacted by weather where there may not be a set schedule for fishing where stamps may be validated but the fishing trip is ultimately canceled. In the event that a trip is cancelled, validated stamps should be refunded.

Response: NMFS disagrees. For charter vessel fishing trips that span multiple days, stamp validation must occur prior to the first deployment of fishing gear into the water each calendar day, as with other existing State of Alaska ADF&G logbook requirements. As a result, if there is uncertainty in whether halibut fishing can occur due to weather or other reasons on a given day, a charter vessel guide may wait to validate stamps until immediately before fishing gear is deployed—that is, until the charter vessel fishing trip (§ 300.61) begins.

Stamp validation is different from purchasing stamps. While stamps should be purchased prior to validation, the regulations allow CHP holders the flexibility to purchase stamps after a charter vessel fishing trip when necessary.

Comment 39: It should be permissible to retain incidental halibut catch during salmon charter fishing trips by allowing for mid-trip validation of stamps after gear deployment. To do this, the regulations should allow for the validation of stamps upon retention of a halibut instead of when there is intent to retain the halibut. The anticipated funds from this fee collection will be recovered by salmon and rockfish charters that unintentionally catch a halibut.

Response: NMFS disagrees. Such an approach would be inconsistent with the Council's recommendations and would also present significant enforcement concerns. The Council's recommendations specify that stamps will be required for charter vessel anglers 18 years of age or older for each day they intend to catch and retain halibut. Notably, the Council's recommendations are consistent with other wildlife stamp programs, such as the State of Alaska king salmon stamp which is required to both fish for and retain king salmon.

This final rule is consistent with the Council's recommendations and contemplates situations where halibut are caught and retained by charter vessel anglers targeting other species, such as salmon. Before the deployment of fishing gear, regardless of the species targeted, the charter vessel guide and a charter vessel angler will need to decide whether the angler intends to retain halibut caught on that trip. If a charter vessel angler decides not to retain a halibut or they believe the opportunity to catch a halibut is unlikely, such as on a trip that targets salmon, then the charter vessel angler and charter vessel guide might decide not to validate a stamp for that trip. Conversely, if the charter vessel angler and charter vessel guide intend to retain halibut on a charter vessel fishing trip, whether the fish are caught incidentally or targeted, a stamp must be validated before fishing gear is deployed (i.e., before the charter vessel fishing trip begins).

Additionally, this program design addresses enforcement concerns. By requiring stamp validation to occur before a charter vessel fishing trip begins, the regulations discourage charter vessel guides from opportunistically validating charter halibut stamps only when they believe they would be questioned by enforcement personnel.

Regarding the anticipated funds collected by a fee collection that would allow for incidental validation of stamps (i.e., being able to validate a stamp at any time, including after unintentionally catching a halibut and deciding to retain it), NMFS is unable to predict the number of charter vessel anglers who plan to catch and retain halibut given the available data; however, the RIR examines available data on the number of days where ADF&G logbooks indicated some angling effort was devoted to bottom fishing on that particular charter vessel fishing trip. By logical extension, angler days summed in this manner would reasonably be greater than the number of angler days where halibut were retained (i.e., not all anglers who engage in bottom fishing retain halibut, even if the charter trip targets halibut). Similarly, it is reasonable to assume that the number of stamps validated before a charter vessel angler intends to catch and retain halibut would be greater than the number of stamps validated only when halibut are retained.

Comment 40: Please clarify whether a charter vessel guide must specify the IPHC regulatory area where the vessel will operate prior to leaving the dock or while validating stamps.

Response: The charter vessel guide is not required to indicate which IPHC regulatory area they will be operating in as part of the stamp validation process. However, a charter vessel guide must have a CHP appropriately endorsed for the IPHC regulatory area they are operating in, and the CHP(s) used for the charter vessel fishing trip must have the required number of charter halibut stamps validated that are required for that charter vessel fishing trip prior to the first deployment of gear for each fishing day.

Comment 41: The intent-based validation of stamps should be changed to a retention-based validation of stamps. The Council's Enforcement Committee recommended an annual fee assessment in order to avoid expenditure of enforcement resources. The additional funding acquired from retention of incidental halibut catch will offset the funding lost by removing the intent-based validation of stamps.

Response: NMFS disagrees. The Council and NMFS considered an annual fee levied on CHP holders as a possible way to reduce administrative costs by relying primarily on existing NMFS infrastructure. Table 19 of the RIR summarizes the benefits and challenges associated with this fee mechanism, and section 3.5.1.5 of the RIR further describes some of the expected long-term and short-term administrative costs. NMFS considered this annual fee, but did not select this fee structure due to concerns that it may not equitably distribute the fee burden across CHP holders. More discussion on this is provided in the response to Comment 15.

The response to comment 39 addresses the expected difference in fee collection when comparing an intent-based stamp versus one that could be validated at any time to account for incidental catch.

Comments on Other Topics

Comment 42: The comment period for this rule should be extended until September 1, 2025 to allow for further comment by the public, including charter vessel clients.

Response: NMFS disagrees. This action has been in development since April 2019. Public comments were accepted throughout this period at Council meetings, as well as the standard 30-day comment period provided by the proposed rule. Additionally, outreach events were held in several communities throughout Areas 2C and 3A and were scheduled during the off season, as this is when persons involved in the charter industry were most available. Furthermore, the timing of the comment period provided by the proposed rule in the off-season allowed fishery participants who might otherwise be busy in the fishery greater opportunity to comprehensively evaluate and comment on this action. Please see the preamble to the proposed rule for more detail information on the lengthy public process undertaken to develop the RQE Program fee collection (89 FR 86772, October 31, 2024).

Comments Outside the Scope of This Action

Comment 43: Several commenters suggested that commercial trawl vessels should contribute to the cost of these stamps or proposed other more restrictive management measures for trawl fisheries.

Response: Management of trawl fisheries is outside of the scope of this action. Furthermore, Congress authorized, through the Act, that RQE Program fees be collected only from charter vessel operators.

Comment 44: NMFS should establish a similar funding mechanism for CQE communities.

Response: Establishing funding mechanisms for CQE communities is outside the scope of this action.

Comment 45: Non-transferable CHPs should be transferable in lieu of a stamp.

Response: Changing the transferability of CHPs is outside the scope of this action. However, NMFS notes that this action, and all other CHP program provisions not related to CHP transferability, apply equally to transferable and non-transferable CHPs.

Comment 46: Why is QS beyond that which allows the fleet to retain two halibut of any size distributed back to the commercial sector? These QS were purchased legally by the RQE.

Response: The RQE Program, implemented in 2018, establishes a temporary redistribution of QS back to the commercial fishery if the RQE holds halibut QS in excess of what would allow charter vessel anglers to retain two halibut of any size per day. This is a component of the original RQE Program rules and is not a subject of this rule.

Comment 47: QS purchased by the RQE should not be returned to the commercial sector.

Response: This action does not implement or modify existing regulations pertaining to the RQE's purchase and disposition of QS at § 679.41. Therefore, this comment is outside of the scope of this action.

Comment 48: Several commenters suggested modifications to the annual management measures applicable to the charter halibut fishery, including that IPHC regulatory areas 2C and 3A should be limited to one halibut per day for charter vessel fishing trips and adding monitoring requirements for the charter halibut fishery that are consistent with the commercial halibut fishery.

Response: This action does not address bag limits or other management measures for the charter halibut fishery; therefore, this comment is outside of the scope of this action. However, as previously discussed, the fees collected as a result of this action may allow for increased flexibility in selecting annual management measures.

Comment 49: The halibut size limits imposed on the charter fleet should apply to self-guided fishing trips as well.

Response: Changing halibut size limits imposed on self-guided anglers is outside the scope of this action.

Comment 50: Please clarify the details of the RQE Program with respect to the function of the program, how quota is determined, and how the program interacts with the commercial fleet.

Response: This action does not address or modify elements of the RQE Program related to the transfer of QS from the commercial sector or how the RQE's QS is applied each year. These details can be found in the final rule document for the RQE Program (83 FR 47819, September 21, 2018) and Federal regulations at § 679.41.

Comment 51: The charter halibut stamp should be a physical stamp or logo so that charter vessel anglers have a tangible record of their fishing trip.

Response: NMFS considered printable stamps but chose to issue electronic stamps instead due to electronic stamps' distinct advantages in cost, distribution, and accounting compared to paper or other forms of physical stamps. These considerations are particularly important for stamps that must be validated on (at minimum) a daily basis, as opposed to other types of stamps such as State of Alaska king salmon stamps that are valid for an entire year or season.

Comments on the Initial Regulatory Flexibility Act

No comments were specifically related to the Initial Regulatory Flexibility Act (IRFA), and NMFS addresses comments that concern costs generally throughout the “Comments and Responses” section and in the Classification section.

Classification

The NMFS Assistant Administrator has determined that this final rule is consistent with section 106 of the Driftnet Modernization and Bycatch Reduction Act, the Magnuson-Stevens Act, the Halibut Act, and other applicable law.

This final rule has been determined to be not significant for purposes of Executive Order 12866. This final rule is not a regulatory action for purposes of Executive Order 14192 because it is not significant under Executive Order 12866.

Executive Order 13175 (E.O. 13175)

A Tribal summary impact statement under section (5)(b)(2)(B) and section (5)(c)(2)(B) of E.O. 13175 was not required for this final rule because this action does not impose substantial direct compliance costs on Indian Tribal Governments, this action is required by statute, and this action does not preempt Tribal law. A Tribal summary impact statement is not required and has not been prepared.

Final Regulatory Flexibility Analysis (FRFA)

This FRFA incorporates the IRFA, a summary of the significant issues raised by the public comments in response to the IRFA, NMFS's responses to those comments, and a summary of the analyses completed to support this action.

Section 604 of the Regulatory Flexibility Act (RFA) requires that, when an agency promulgates a final rule under section 553 of Title 5 of the U.S. Code, after being required by that section or any other law to publish a general notice of proposed rulemaking, the agency shall prepare a FRFA. Section 604 describes the required contents of a FRFA: a statement of the need for and objectives for this final rule; a statement of the significant issues raised by the public comments in response to the IRFA, a statement of the assessment of the agency of such issues, and a statement of any changes made to the proposed rule as a result of such comments; the response of the agency to any comments filed by the Chief Counsel for Advocacy of the Small Business Administration (SBA) in response to the proposed rule, and a detailed statement of any change made to the proposed rule in this final rule as a result of the comments; a description of and an estimate of the number of small entities to which the rule will apply or an explanation of why no such estimate is available; a description of the projected reporting, recordkeeping, and other compliance requirements of the rule, including an estimate of the classes of small entities that will be subject to the requirement and the type of professional skills necessary for preparation of the report or record; and a description of the steps the agency has taken to minimize the significant economic impact on small entities consistent with the stated objectives of applicable statutes including a statement of the factual, policy, and legal reasons for selecting the alternative adopted in this final rule and why each one of the other significant alternatives to the rule considered by the agency which affect the impact on small entities was rejected.

A description of this final rule and the need for and objectives of this final rule are contained in the preamble to this final rule and the preamble to the proposed rule (89 FR 86772, October 31, 2024) and are not repeated here.

Public and Chief Counsel for Advocacy Comments on the Proposed Rule

NMFS published the proposed rule on October 31, 2024 (89 FR 86772). An IRFA was prepared and summarized in the Classification section of the preamble to the proposed rule. The Chief Counsel for Advocacy of the SBA did not file any comments on the proposed rule.

Summary of Significant Issues Raised During Public Comment

NMFS received no comments specifically on the IRFA. However, many commenters were concerned with the additional costs imposed on charter businesses by this stamp requirement. Commenters were also concerned with the additional time burden of complying with this final rule. Some commenters suggested requiring individual charter vessel anglers to pay the fee rather than CHP holders. However, Congress only provided authorization for NMFS to collect fees from charter vessel operators, not individual anglers. In Comments and Responses above, Comment 28 addresses this concern.

Number and Description of Small Entities Regulated by This Final Rule

This final rule requires a charter halibut stamp for each charter vessel angler, 18 years of age or older, for each charter vessel fishing trip in a given calendar day, or each calendar day during a charter vessel fishing trip that spans multiple days, that the charter vessel angler intends to catch and retain halibut on a charter vessel in IPHC regulatory area 2C or 3A, unless that charter vessel angler retains halibut landed as GAF on days that are otherwise closed by regulation to halibut retention. Charter vessel guides are obligated to ensure that there are validated stamps for each charter vessel angler fishing for halibut on a charter vessel. CHP holders are ultimately responsible for purchasing a sufficient quantity of stamps each fishing year.

Thus, for RFA purposes, those entities that are directly regulated by the action are charter halibut businesses (i.e., Sportfishing Guide Business Owners), charter vessel guides, CHP holders (including CHPs issued under the CQE and MWR programs), and the RQE. The thresholds applied to determine if an entity or group of entities is considered a “small” business under the RFA depends on the industry classification for the entity or entities.

The ADF&G logbook data shows that, between 2017 and 2022, there were as many as 478 charter halibut businesses, with the low count of 342 occurring in 2021. The most recent data available shows 368 directly regulated charter halibut businesses in 2022. The count of directly regulated charter halibut guides was lowest in 2020, at 820, and highest in 2019 when 1,240 charter vessel guides participated in the affected fishery. Data for the most recent year, 2022, identified 1,037 directly regulated charter vessel guides. Charter vessel guides that are employees of charter halibut businesses are not directly regulated entities under the RFA. However, guides that are independent contractors are directly regulated by this action and would be considered directly regulated entities under the RFA.

There is no annual census data collection of gross revenues for charter businesses or charter vessel guides with which to compare to the $14 million threshold. A voluntary Alaska Saltwater Sport Fishing Charter Business Survey has been conducted by the Alaska Fisheries Science Center, which has gathered information on expenses, revenues, and business characteristics for the 2011, 2013, 2015, and 2017 fishing years. As demonstrated in the most recent Cost and Earnings Report, as detailed in the RIR for this action, the mean gross revenue for the population of charter businesses was between $200,894 (in 2012) and $302,609 (in 2013). These estimates are based on self-reported sales and revenues of charter trips (not necessarily charter vessel fishing trips for halibut) and include client referrals and booking commission revenue as well as revenue accrued by leasing a CHP. These estimates do not account for values derived from additional accommodations or food/beverage service.

Based on the difference between the SBA threshold ($14 million) and the mean revenue for charter businesses reported in the RIR, the available evidence indicates that all directly regulated businesses and associated charter vessel guides are considered “small.” If a business was large enough, potentially including lodging and multiple recreational activities, it is possible it could exceed the SBA threshold. However, there is no data to identify if or how many businesses may fit into this category; thus, all businesses are considered “small.”

Moreover, there is no available data to determine the relationship charter vessel guides have to the business (e.g., owner/operator, hourly or salaried employee, contracted partnership, etc.). However, given the relative difference between estimated gross revenue at the business level and the $14 million threshold, those charter vessel guides that represent a separate entity are very likely still considered a small entity by SBA standards. Similarly, CQEs, MWRs, and the RQE are considered to be small entities due to their relationship to the charter fishery. Analysis of the QS purchase limitations of one percent annually and ten percent total are estimated to produce total value of just over $2 million in annual revenue by year ten in IPHC regulatory area 2C and approximately $5.6 million in total value annual value after ten years in IPHC regulatory area 3A. Thus, the CQE and RQE entities are considered to be directly regulated small entities.

Description of Significant Alternatives That Minimize Adverse Impacts on Small Entities

The action alternative analyzed two options for funding the RQE. The first, and the basis of this action, is the stamp paid for by CHP holders with the stamp fees potentially passed on to individual charter vessel anglers. The second alternative is an annual CHP holder fee collection. Note that charter vessel anglers are considered individuals and not directly regulated small entities under the RFA definition. However, as demonstrated in this IRFA, based on the information that is available, all charter halibut businesses and charter vessel guides are considered to be directly regulated small entities. Charging an annual CHP holder-based fee that did not vary depending on the number of charter vessel anglers served may disproportionately impact some directly regulated small entities. The stamp method of fee collection would utilize a market-based approach to fund the RQE that is proportional to each CHP holder's use of the resource. There are costs associated with this action. These include direct costs for the stamps, which are designed to provide a directly corresponding benefit to charter businesses by increasing allocation. With the $20 stamp fee, as noted in section 3.5.5 of the RIR, the average cost to a charter halibut business is estimated to be approximately $5,600 annually in IPHC regulatory area 2C and $7,500 annually in area 3A. In both IPHC regulatory areas the maximum cost could be over $50,000 for some CHP holders. The estimated total annual revenues from stamps in IPHC regulatory area 2C is $1.79 million, and $2.20 million from area 3A. However, NMFS notes that these costs are also proportional to the gross revenue of the business because the number of stamps is equivalent to the number of charter vessel anglers served. The second category of costs are those required to administer the program, which may be deducted from stamp revenues.

Therefore, development of the administrative elements of this action selected options designed to maximize efficiency and benefits to the directly regulated entities. These choices include allowing holders of multiple CHPs to pool their stamps for use on any of those CHPs, rolling unused stamps over to the next fishing year, disallowing transfers of stamps, and utilizing preexisting electronic systems for purchasing stamps. As a result, administrative costs are expected to be only a small portion of total stamp revenues.

Furthermore, this action was requested and helped developed by charter halibut fishery representatives and stakeholders. The analysis of benefits of the stamp fee collection funding mechanism indicates that this is a generally beneficial action in that it provides individual charter vessel anglers with potential opportunities for eased restrictions on halibut retention and greater business opportunities for charter halibut businesses and charter vessel guides. The second alternative of implementing an annual CHP holder fee was deemed insufficient, as it may have disproportionately impacted small entities, which, despite less the halibut resource, would pay the same amount as a larger user under this approach. Thus, based upon the best available scientific data, it appears that there are no significant alternatives to the action that have the potential to accomplish the stated objectives of the section 106 of the Driftnet Modernization and Bycatch Reduction Act, the Magnuson-Stevens Act, the Halibut Act, and any other statutes, and minimize any significant adverse economic impact of the action on small entities while preventing overfishing.

Duplicate, Overlapping, or Conflicting Federal Rules

NMFS has not identified any duplication, overlap, or conflict between this final rule and existing Federal rules.

Recordkeeping, Reporting, and Other Compliance Requirements

This final rule contains a collection-of-information requirement subject to review and approval by the Office of Management and Budget (OMB) under the Paperwork Reduction Act (PRA). OMB did not receive any comments related to the collection-of-information requirements during the PRA comment period, which were outlined in the proposed rule and associated PRA package that was submitted to OMB. NMFS received several comments that relate both to the contents of the proposed rule and its new collection-of-information requirements. Comments 9, 15, 16, 28, 29, 30, 31, 33, and 40 relate to different aspects of the new collection-of-information requirements and NMFS's rationale can be found in the responses to those comments. This final rule maintains the proposed rule's changes to the existing requirements for the collection of information for OMB Control Number 0648-0575 (Alaska Halibut Fisheries: Charter) by adding the purchase of charter halibut stamps, adding one new field to the existing ADF&G logbook to record the number of stamps validated on each charter vessel fishing trip, and adding appeals for an IAD received for a number of stamps validated in excess of the number of stamps purchased by the CHP holder in a year. NMFS expects that every CHP holder will purchase stamps at least once per season, and likely at some periodic monthly or weekly interval. This final rule does not change the number of respondents or the responses for the ADF&G logbook. The ADF&G logbook is already completed for every charter vessel fishing trip, and the stamp validation field would be required to be completed for every charter vessel fishing trip that intends to catch and retain halibut. These information collections are necessary to collect fees and administer, and to enforce the RQE Program that was requested by charter halibut fishery stakeholders. Public reporting burden is estimated to average 5 minutes to purchase charter halibut stamps; 5 minutes for the ADF&G logbook, which includes 1 minute for completing the additional field in the logbook; and 4 hours for appeals. The public reporting burden includes the time for reviewing instructions, searching existing data sources, gathering and maintaining the data needed, and completing and reviewing the collection of information.

We invite the general public and other Federal agencies to comment on proposed and continuing information collections, which helps us assess the impact of our information collection requirements and minimize the public's reporting burden. Written comments and recommendations for this information collection should be submitted on the following website: https://www.reginfo.gov/public/do/PRAMain. Find this particular information collection by using the search function and entering either the title of the collection or the OMB Control Number 0648-0575.

Notwithstanding any other provisions of the law, no person is required to respond to, nor shall any person be subject to a penalty for failure to comply with, a collection of information subject to the requirements of the PRA, unless that collection of information displays a currently valid OMB Control Number.

Small Entity Compliance Guide

Section 212 of the Small Business Regulatory Enforcement Fairness Act of 1996 states that, for each rule or group of related rules for which an agency is required to prepare a FRFA, the agency shall publish one or more guides to assist small entities in complying with the rule and shall designate such publications as “small entity compliance guides.” The agency shall explain the actions a small entity is required to take to comply with a rule or group of rules. Copies of the proposed rule, this final rule, and the small entity compliance guide are available on the Alaska Region's website at: https://www.fisheries.noaa.gov/action/pacific-halibut-recreational-quota-entity-program-fee-collection.

List of Subjects

50 CFR Part 300

Administrative practice and procedure, Antarctica, Canada, Exports, Fish Fisheries, Fishing, Imports, Indians, Labeling, Marine resources, Reporting and recordkeeping requirements, Russian Federation, Transportation, Treaties, Wildlife.

50 CFR Part 679

Alaska, Fisheries, Reporting and recordkeeping requirements.

Dated: July 1, 2025.
Samuel D. Rauch III,
Deputy Assistant Administrator for Regulatory Programs, National Marine Fisheries Service.

For the reasons set out in the preamble, NMFS amends 50 CFR parts 300 and 679 as follows:

PART 300—INTERNATIONAL FISHERIES REGULATIONS

Subpart E—Pacific Halibut Fisheries

1. The authority citation for part 300, subpart E, continues to read as follows:

Authority: 16 U.S.C. 773-773k.

2. Amend § 300.61 by:

a. Revising the definition of “Charter halibut permit”;

b. Adding in alphabetical order definitions for “Charter halibut stamp” and Charter halibut stamp validation”; and

c. Revising the definitions of “Charter vessel” and “Charter vessel angler” “Charter vessel fishing trip,” and “Charter vessel guide” to read as follows:

§ 300.61 Definitions.

* * * * *

Charter halibut permit means a permit issued by the National Marine Fisheries Service pursuant to § 300.67, and subject to requirements in §§ 300.65, 300.66, and 300.67, and 50 CFR 679.7(q), and 679.46.

Charter halibut permit holder (see § 679.2 of this title).

Charter halibut stamp (see § 679.2 of this title).

Charter halibut stamp validation (see § 679.2 of this title).

Charter vessel, for purposes of §§ 300.65, 300.66, and 300.67, and 50 CFR 679.7(q) and 679.46, means a vessel used while providing or receiving sport fishing guide services for halibut, and, for purposes of § 300.63, means a vessel used for hire in recreational (sport) fishing for Pacific halibut, but not including a vessel without a hired operator.

Charter vessel angler, for purposes of §§ 300.65, 300.66, and 300.67, and 50 CFR 679.7(q) and 679.46, means a person, paying or non-paying, receiving sport fishing guide services for halibut.

Charter vessel fishing trip, for purposes of §§ 300.65, 300.66, and 300.67, and 50 CFR 679.7(q) and 679.46, means the time period between the first deployment of fishing gear into the water from a charter vessel by a charter vessel angler and the offloading of one or more charter vessel anglers or any halibut from that vessel.

Charter vessel guide, for purposes of §§ 300.65, 300.66, and 300.67, and 50 CFR 679.7(q) and 679.46, means a person who holds an annual sport fishing guide license or registration issued by the Alaska Department of Fish and Game, or a person who provides sport fishing guide services.

* * * * *

3. Amend § 300.65 by revising paragraphs (d)(1)(ii) and (d)(4)(ii)(B) introductory text and adding paragraph (d)(4)(ii)(B)(11) to read as follows:

§ 300.65 Catch sharing plan and domestic management measures in waters in and off Alaska.

* * * * *

(d) * * *

(1) * * *

(ii) The charter vessel guide is responsible for complying with the reporting requirements of this paragraph (d) and 50 CFR 679.46. The person whose business was assigned to an Alaska Department of Fish and Game Saltwater Sport Fishing Charter Trip Logbook is responsible for ensuring that the charter vessel guide complies with the reporting requirements of this paragraph (d) and 50 CFR 679.46.

* * * * *

(4) * * *

(ii) * * *

(B) Charter vessel guide requirements. If halibut were caught and retained in Commission regulatory area 2C or 3A, the charter vessel guide must record the following information (see paragraphs (d)(4)(ii)(B)(1) through (10) of this section and 50 CFR 679.46) in the Alaska Department of Fish and Game Saltwater Sport Fishing Charter Trip Logbook:

* * * * *

(11) Validation of charter halibut stamps. The charter vessel guide is responsible for complying with the charter halibut stamp validation requirements at 50 CFR 679.46 before the charter vessel fishing trip begins, or prior to deployment of fishing gear on each calendar day of a charter vessel fishing trip that spans multiple days.

* * * * *

4. Amend § 300.67 by revising paragraphs (a) introductory text and (a)(1) to read as follows:

§ 300.67 Charter halibut limited access program.

* * * * *

(a) General permit requirements—(1) Requirements. In addition to other applicable permit, licensing, or registration requirements, any charter vessel guide of a charter vessel during a charter vessel fishing trip with one or more charter vessel anglers catching and retaining Pacific halibut on board must have on board the vessel an original valid charter halibut permit or permits endorsed for the regulatory area in which the charter vessel is operating and endorsed for at least the number of charter vessel anglers who are catching and retaining Pacific halibut. Each charter halibut permit holder must ensure that the charter vessel operator and charter vessel guide of the charter vessel comply with all requirements of §§ 300.65 and 300.66, this section, and 50 CFR 679.46.

* * * * *

PART 679—FISHERIES OF THE EXCLUSIVE ECONOMIC ZONE OFF ALASKA

5. The authority citation for part 679 continues to read as follows:

Authority: 16 U.S.C. 773 et seq.; 1801 et seq.; 3631 et seq.; Pub. L. 108-447; Pub. L. 111-281.

6. Amend § 679.2 by adding in alphabetical order the definitions of “Charter halibut permit,” “Charter halibut permit holder,” “Charter halibut stamp,” “Charter halibut stamp validation,” “Charter vessel,” “Charter vessel angler,” “Charter vessel fishing trip,” “Charter vessel guide,” “Community charter halibut permit,” and “Military charter halibut permit” to read as follows:

§ 679.2 Definitions.

* * * * *

Charter halibut permit (see 50 CFR 300.61 of this title).

Charter halibut permit holder, for purposes of 50 CFR 300.67 of this title and § 679.46, means the person identified on a charter halibut permit, community charter halibut permit, or military charter halibut permit.

Charter halibut stamp means an electronic stamp that is required for each charter vessel angler, 18 years of age or older, for each charter vessel fishing trip in a given calendar day, or each calendar day during a charter vessel fishing trip that spans multiple days, that the charter vessel angler intends to catch and retain halibut on a charter vessel in International Pacific Halibut Commission (IPHC) regulatory area 2C or 3A, unless that charter vessel angler retains halibut as Guided Angler Fish, as defined at 50 CFR 300.61 of this title, on days that are otherwise closed to halibut retention by the annual management measures published pursuant to 50 CFR 300.62 of this title.

Charter halibut stamp validation means, with respect to the Recreational Quota Entity Program fee collection, as described at 50 CFR 679.46, the charter vessel guide, as defined at 50 CFR 300.61 of this title, recording the number of charter halibut stamps required for each charter vessel fishing trip the charter vessel guide provides sport fishing guide services, as defined at 50 CFR 300.61 of this title, in the ADF&G Saltwater Sport Fishing Charter Trip Logbook that is required by 50 CFR 300.65(d) of this title before the trip begins, or prior to the first deployment of fishing gear on each calendar day during a charter vessel fishing trip that spans multiple days.

Charter vessel (see 50 CFR 300.61 of this title).

Charter vessel angler (see 50 CFR 300.61of this title).

Charter vessel fishing trip (see 50 CFR 300.61 of this title).

Charter vessel guide (see 50 CFR 300.61 of this title).

* * * * *

Community charter halibut permit (see 50 CFR 300.61 of this title).

* * * * *

Military charter halibut permit (see 50 CFR 300.61 of this title)

* * * * *

7. Amend § 679.4 by revising paragraphs (a)(1)(xv)(A) through (C) to read as follows:

§ 679.4 Permits.

(a) * * *

(1) * * *

If program permit or card type is: | Permit is in effect from issue date through the end of: | For more information, see. . .
* * * * * * *
(xv) Guided sport halibut fishery permits:
(A) Charter halibut permit | Until expiration date shown on permit | 50 CFR 300.67 of this title and § 679.46.
(B) Community charter halibut permit | Indefinite unless invalidated under § 679.46(a)(1)(vi)(D) | 50 CFR 300.67 of this title and § 679.46.
(C) Military charter halibut permit | Indefinite unless invalidated under § 679.46(a)(1)(vi)(D) | 50 CFR 300.67 of this title and § 679.46.
* * * * * * *

* * * * *

8. Amend § 679.7 by adding paragraph (q) to read as follows:

§ 679.7 Prohibitions.

* * * * *

(q) Recreational Quota Entity Program. (1) Be a charter vessel guide during a charter vessel fishing trip in IPHC regulatory area 2C or 3A, unless:

(i) the charter vessel guide has completed a charter halibut stamp validation for each charter vessel angler before the charter vessel fishing trip began, or prior to first deployment of fishing gear on each calendar day of a charter vessel fishing trip that spans multiple days, as specified at § 679.46(a)(1); or

(ii) one or more charter vessel anglers retains halibut as Guided Angler Fish, as defined at 50 CFR 300.61 of this title, on days that are otherwise closed to halibut retention by the annual management measures published pursuant to 50 CFR 300.62 of this title.

(2) Be a charter halibut permit holder and fail to purchase a number of charter halibut stamps equal to or greater than the number of charter halibut stamp validations that were performed in a given fishing year by the reconciliation deadline specified in § 679.46(a)(1)(v).

9. Add § 679.46 to read as follows:

§ 679.46 Recreational Quota Entity (RQE) Program fee collection.

(a) Fee collection—(1) Charter halibut stamp. A charter halibut stamp is required for charter vessel anglers, 18 years of age or older, for each charter vessel fishing trip in a given calendar day, or each calendar day during a charter vessel fishing trip that spans multiple days, that the charter vessel angler intends to catch and retain halibut on a charter vessel in IPHC regulatory area 2C or 3A, unless that charter vessel angler retains halibut as Guided Angler Fish, as described at 50 CFR 300.65 of this title, on days that are otherwise closed to halibut retention by the annual management measures published pursuant to 50 CFR 300.62 of this title. This includes charter vessel anglers on charter vessels operated under a charter halibut permit, community charter halibut permit, or military charter halibut permit issued pursuant to 50 CFR 300.67 of this title. A charter halibut permit holder is responsible for purchasing the required number of charter halibut stamps and for complying with all other requirements of this section. The required number of charter halibut stamps is equal to or greater than the number of charter halibut stamp validations (as defined at § 679.2) performed in a given fishing year for each charter halibut permit, community charter halibut permit, or military charter halibut permit.

(i) Validation of stamps. After determining the number of charter halibut stamps required under this paragraph (a)(1), the charter vessel guide must perform a charter halibut stamp validation as defined at § 679.2 before the charter vessel fishing trip begins, or prior to first deployment of fishing gear on each calendar day of a charter vessel fishing trip that spans multiple days.

(ii) Duration of validation. The charter halibut stamp that has received a charter halibut stamp validation, as defined at § 679.2, is in effect from the time, A.l.t, that it is validated until 2400 hours, A.l.t., the same day. For the purposes of charter halibut stamp validation, if a charter vessel fishing trip lasts more than one calendar day, a charter halibut stamp is required for each charter vessel angler for each calendar day of the charter vessel fishing trip as specified at § 679.46(a)(1).

(iii) Non-transferability. Charter halibut stamps are not transferable. This includes:

(A) After charter halibut stamp validation for an individual charter vessel angler, the charter halibut stamp may not be transferred to or used by any other person.

(B) Charter halibut stamps may only be used for charter halibut permits in a given NMFS-approved account and may not be transferred between approved accounts.

(iv) Rollover. A charter halibut stamp that has been purchased and has not received charter halibut permit validation does not expire. Such charter halibut stamps may be validated in a future fishing year.

(v) Charter halibut stamp validation reconciliation. If, by 2400 A.l.t. on December 31 of a given fishing year, a charter halibut permit holder, for one or more associated charter halibut permits in a NMFS-approved account, has not purchased a number of charter halibut stamps equal to or greater than the number of charter halibut stamps validated under that account for that same fishing year, the Regional Administrator will send a reconciliation notice to the charter halibut permit holder. The reconciliation notice will state the validated charter halibut stamp deficit, as determined by the number of charter halibut stamps validated for that fishing year in excess of the number of charter halibut stamps that have been purchased. A charter halibut permit holder has 30 days from the date of the notice to either purchase the outstanding number of validated stamps or demonstrate how the reconciliation determination is in error.

(vi) Validated Charter halibut stamp deficit. If a charter halibut permit holder does not purchase the outstanding number of validated charter halibut stamps or demonstrate how the reconciliation determination described in paragraph (a)(1)(v) of this section is erroneous within 30 days as outlined in this paragraph (a)(1)(vi) of this section, the Regional Administrator may:

(A) Issue an Initial Administrative Determination (IAD) upholding the reconciliation determination;

(B) Disapprove any application to transfer the charter halibut permit, associated charter halibut permits in a NMFS-approved account, GAF, IFQ, or QS to or from the charter halibut permit holder until the outstanding validated charter halibut stamps are purchased, except that NMFS may return unused GAF to the IFQ holder's account from which it was derived on or after the automatic GAF return date;

(C) Disapprove the annual registration application of the charter halibut permit, and all associated charter halibut permits in a NMFS-approved account, in accordance with 50 CFR 300.67(a) of this title, until the outstanding validated charter halibut stamps are purchased; and

(D) Invalidate the community charter halibut permit or military charter halibut permit until the outstanding validated charter halibut stamps associated with that permit are purchased.

(vii) Appeals. A charter halibut permit holder who receives an IAD for a validated charter halibut stamp deficit may appeal the IAD pursuant to 15 CFR part 906.

(2) [Reserved]

(b) Fee amount. (1) The fee for a charter halibut stamp is $20.

(2) The RQE may petition NMFS to increase or decrease the fee for a charter halibut stamp beginning on January 1, 2028. The fee for the charter halibut stamp may not increase by an amount more than 10 percent of the fee in the previous fishing year.

(3) The RQE may petition NMFS to suspend the fee at any time.

(c) Fee payment to NMFS—(1) Obtaining charter halibut stamps. Charter halibut permit holders must obtain charter halibut stamps from NMFS and pay applicable fees as specified at paragraph (a)(1) of this section.

(2) Charter vessel guide responsibilities. Before each charter vessel fishing trip begins, the charter vessel guide is responsible for charter halibut stamp validation for each charter vessel angler as specified at paragraph (a)(1) of this section.

(3) Timing of charter halibut stamp reconciliation. Charter halibut stamp reconciliation must occur as specified at paragraph (a)(1)(v) of this section.

(d) RQE fee collection suspension. The Regional Administrator may suspend the RQE fee collection indefinitely, or until such a time that any identified RQE operational deficiencies are corrected, if:

(1) Through the issuance of an IAD and the opportunity to appeal the IAD under 15 CFR part 906, the Regional Administrator determines that the RQE is out of compliance with regulations in this title, the RQE's own by-laws, or other applicable law;

(2) The Regional Administrator approves a petition by the RQE to suspend the RQE fee collection; or

(3) Congress no longer provides authorization for the Secretary of Commerce to collect and spend fees.

[FR Doc. 2025-12558 Filed 7-3-25; 8:45 am]

BILLING CODE 3510-22-P